ENVIRONMENTAL PROTECTION AGENCY

[FRL-8708-3]

National Advisory Council for Environmental Policy and Technology

AGENCY: Environmental Protection Agency (EPA).

ACTION: Notice of meeting.

SUMMARY: Under the Federal Advisory Committee Act, Public Law 92463, EPA gives notice of a public teleconference of the National Advisory Council for Environmental Policy and Technology (NACEPT). NACEPT provides advice to the EPA Administrator on a broad range of environmental policy, technology, and management issues. The Council represents diverse interests from academia, industry, non-governmental organizations, and local, state, and tribal governments. The purpose of this teleconference is to discuss and approve draft NACEPT recommendations on Encouraging Regional Solutions to Sustaining Water Sector Utilities and Integrated Modeling for Integrated Environmental Decision Making. A copy of the agenda for the meeting will be posted at http://www.epa.gov/ocem/nacept/cal-nacept.htm.

DATES: NACEPT will hold a public teleconference on Tuesday, September 16, 2008, from 2 p.m.-4 p.m. Eastern Daylight Time.

ADDRESSES: The meeting will be held in the U.S. EPA East Building, 1201 Constitution Ave, NW., Room 1132, Washington, DC 20004.

FOR FURTHER INFORMATION CONTACT: Sonia Altieri, Designated Federal Officer, altieri.sonia@epa.gov, (202) 564-0243, U.S. EPA, Office of Cooperative Environmental Management (1601M), 1200 Pennsylvania Avenue, NW., Washington, DC 20460.

SUPPLEMENTARY INFORMATION: Requests to make oral comments or to provide written comments to the Council should be sent to Sonia Altieri, Designated Federal Officer, at the contact information above by Friday, September 12, 2008. The public is welcome to attend all portions of the meeting, but seating is limited and is allocated on a first-come, first-serve basis. Members of the public wishing to gain access to the conference room on the day of the meeting must contact Sonia Altieri at (202) 564-0243 or altieri.sonia@epa.gov by September 12, 2008.

Meeting Access: For information on access or services for individuals with disabilities, please contact Sonia Altieri at (202) 564-0243 or altieri.sonia@epa.gov. To request accommodation of a disability, please contact Sonia Altieri, preferably at least 10 days prior to the meeting, to give EPA as much time as possible to process your request.

Dated: August 14, 2008.
Sonia Altieri,
Designated Federal Officer.

[FR Doc. E8-19748 Filed 8-25-08; 8:45 am]

BILLING CODE 6560-50-P